FEDERAL COMMUNICATIONS COMMISSION

47 CFR Part 0

[FCC 00-450]

Formalized Structure and Responsibilities of the Local and State Government Advisory Committee

AGENCY: Federal Communications Commission.

ACTION: Final rule.

SUMMARY: This document formalizes the structure and responsibilities of the Local and State Government Advisory Committee (LSGAC). The LSGAC currently is comprised of 15 elected and appointed officers of municipal, county, state, and tribal governments.

DATES: Effective January 29, 2001.

FOR FURTHER INFORMATION CONTACT: Emily Hoffnar, FCC Liaison to the LSGAC, Common Carrier Bureau, (202) 418-1500.

SUPPLEMENTARY INFORMATION: This is a summary of a Commission's Order released on January 8, 2001. The full text of this document is available for public inspection during regular business hours in the FCC Reference Center, Room CY-A257, 445 Twelfth Street, SW., Washington, DC 20554.

1. In this Order, we formalize the structure and responsibilities of the Local and State Government Advisory Committee (LSGAC) by adopting a new Subpart G, § 0.701 of the Commission's rules. The LSGAC currently is comprised of 15 elected and appointed officers of municipal, county, state, and tribal governments. Since its inception in 1997, the LSGAC has provided advice and information to the Commission on key issues relevant to the LSGAC, including public rights-of-way, facilities siting, universal service, removal of barriers to competitive entry, public safety communications, and various issues regarding implementation of the Telecommunications Act of 1996. Meetings held between the LSGAC and the Commission concern the management or implementation of Commission programs that explicitly or inherently share intergovernmental responsibilities or administration with local, county, state, or tribal governments.

2. We expect the LSGAC will continue to facilitate intergovernmental communication between local and state governments and the Commission. We therefore believe it is appropriate to recognize in our rules the important role that the LSGAC plays and to formalize its structure and duties. The new rules therefore specify the number of LSGAC members, as well as membership categories, to ensure that the LSGAC continues to reflect a diverse representation of municipal, county, state and tribal governments. Consistent with its current structure, the new rules states that there shall be 15 members of the LSGAC, comprised as follows: six elected municipal officials (city mayors and city council members); three elected county officials (county commissioners or council members); one elected or appointed local government attorney; one elected state executive (governor or lieutenant governor); two elected state legislators; one elected or appointed public utilities or public service commissioner, and one elected or appointed Native American tribal representative. The LSGAC members shall select two members, a Chair and Vice Chair, to serve as leaders of the Committee. In the event of vacancies, the Chairman of the Commission shall seek nominations through issuance of a Public Notice and shall appoint new members to the LSGAC. At his discretion, the Chairman may replace LSGAC members using this same appointment process.

3. To ensure the continued effectiveness of the LSGAC, members of the LSGAC are required to attend a minimum of fifty percent of the meetings held yearly. Failure to meet this attendance requirement will result in loss of membership in the LSGAC, subject to the discretion of the LSGAC chair. Vacancies resulting from failure to meet the attendance requirement will be filled through the nomination process described.

4. Members of the LSGAC are responsible for travel and other incidental expenses incurred while on LSGAC business and shall not be reimbursed for such expenses by the Commission.

5. The rule adopted herein is a rule of agency organization, procedure and practice, and the notice and comment and effective date provisions of the Administrative Procedure Act are therefore inapplicable. See 5 U.S.C. 553(b)(3)(A), (d). Pursuant to sections 4(i), 4(j), and 303(r) of the Communications Act of 1934, as amended, 47 U.S.C. 154(i), 154(j), and 303(r), Subpart G, § 0.701 of the Rules and Regulations of the Federal Communications Commission, 47 CFR 0.701, is adopted as set forth, to be effective January 29, 2001.

List of Subjects in 47 CFR Part 0

Freedom of information, Government publications, Organization and functions, Sunshine Act.

Federal Communications Commission.
Magalie Roman Salas,
Secretary.

Rule Change

For the reasons discussed in the preamble, the Federal Communications Commission amends 47 CFR part 0 as follows:

PART 0—COMMISSION ORGANIZATION

1. The authority citation for part 0 continues to read as follows:

Authority: Sec. 5, 48 Stat. 1068, as amended; 47 U.S.C. 155, 225, unless otherwise noted.

2. In part 0, add a new subpart G, section 0.701 to read as follows:

Subpart G—Intergovernmental Communication

§ 0.701 Local and State Government Advisory Committee.

The Local and State Government Advisory Committee (LSGAC) will facilitate intergovernmental communication between local municipal, county, state and tribal governments and the Federal Communications Commission. The LSGAC shall be comprised of 15 members (or their designated employees) as follows: six elected municipal officials (city mayors and city council members); three elected county officials (county commissioners or council members); one elected or appointed local government attorney; one elected state executive (governor or lieutenant governor); two elected state legislators; one elected or appointed public utilities or public service commissioner, and one elected or appointed Native American tribal representative. The LSGAC members shall select two members, a Chair and Vice Chair, to serve as leaders of the Committee. Vacancies to on the LSGAC shall be filled through a nomination process initiated by Public Notice and appointments shall be made by the Chairman of the Federal Communications Commission. At his discretion, the Chairman may replace LSGAC members using this same appointment process. Members of the LSGAC are required to attend a minimum of fifty percent of the yearly meetings. Failure to meet this attendance requirement will result in loss of membership in the LSGAC, subject to the discretion of the LSGAC chair. Members of the LSGAC are responsible for travel and other incidental expenses incurred while on LSGAC business and shall not be reimbursed for such expenses by the Commission. Pursuant to section 204(b) of the Unfunded Mandates Reform Act of 1995, 2 U.S.C. 1534(b), the LSGAC is not subject to, and is not required to follow, the procedures set forth in the Federal Advisory Committee Act. 5 U.S.C., App. 2 (1988).

[FR Doc. 01-2439 Filed 1-26-01; 8:45 am]

BILLING CODE 6712-01-P